DEPARTMENT OF TRANSPORTATION

Federal Aviation Administration

RTCA NextGen Advisory Committee (NAC)

AGENCY: Federal Aviation Administration (FAA), DOT.

ACTION: Notice of RTCA NextGen Advisory Committee (NAC).

SUMMARY: The FAA is issuing this notice to advise the public of a meeting of RTCA NextGen Advisory Committee (NAC).

DATES: The meeting will be held September 23, 2010, from 8:30 a.m. to 11:30 a.m.

ADDRESSES: The meeting will be held at Bessie Coleman Room, Federal Aviation Administration, 800 Independence Avenue, SW., Washington, DC 20591.

METRO: L'Enfant Plaza Station (Use 7th & Maryland Exit).

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for the NextGen Advisory Committee meeting. The agenda will include:

• Opening Plenary (Welcome and Introductions).

• Review Terms of Reference and Initial Tasking.

• Overview of NextGen—Setting the stage for Committee actions.

• RTCA Task Force 5 Recommendations.

• FAA Actions and Activities.

• International Perspective.

• Close-out ATMAC Action Items.

• Trajectory Ops WG Recommendations.

• Tracking August 4th ATMAC Recommendations going forward.

• RTCA Joint WG Metroplex Recommendations.

• Discussion of Initial Task.

• Discussion of Requested New WG Tasks.

• Review Working Subcommittee.

• Overview of ATMAC Workgroups and Discussion of Required Skills and Expertise for Future Workgroups.

• Set Meeting Dates for 2011.

• Closing Plenary (Other Business, Adjourn).

Attendance is open to the interested public but limited to space availability. With the approval of the chairmen, members of the public may present oral statements at the meeting. Persons wishing to present statements or obtain information should contact the person listed in the FOR FUTHER INFORMATION CONTACT section. Members of the public may present a written statement to the committee at any time.

Issued in Washington, DC, on August 30, 2010.
Robert L. Bostiga,
RTCA Advisory Committee.

[FR Doc. 2010-22098 Filed 9-2-10; 8:45 am]

BILLING CODE 4910-13-P